DEPARTMENT OF COMMERCE

National Oceanic and Atmospheric Administration

50 CFR Part 660

[Docket No. 200410-0109]

RIN 0648-BJ53

Magnuson-Stevens Act Provisions; Fisheries Off West Coast States; Pacific Coast Groundfish Fishery; 2020 Harvest Specifications for Pacific Whiting, Cowcod and Shortbelly Rockfish and 2020 Pacific Whiting Tribal Allocation

AGENCY: National Marine Fisheries Service (NMFS), National Oceanic and Atmospheric Administration (NOAA), Commerce.

ACTION: Proposed rule; request for comments.

SUMMARY: This proposed rule would establish 2020 harvest specifications and management measures for Pacific whiting, shortbelly rockfish and cowcod taken in the U.S. exclusive economic zone off the coasts of Washington, Oregon and California consistent with the Magnuson-Stevens Fishery Conservation and Management Act, the Pacific Whiting Act of 2006, and other applicable laws. This rule proposes 2020 harvest specifications for Pacific whiting including the U.S. and coastwide Total Allowable Catch (TAC), the 2020 tribal allocation for the Pacific whiting fishery, allocations for three commercial whiting sectors, and set-asides for Pacific whiting research and incidental mortality in other fisheries. The proposed rule would also adjust the 2020 harvest specifications for shortbelly rockfish and cowcod. The proposed measures are intended to help prevent overfishing, achieve optimum yield, and ensure that management measures are based on the best scientific information available.

DATES: Comments on this proposed rule must be received no later than May 4, 2020.

ADDRESSES: You may submit comments on this document, identified by NOAA-NMFS-2020-0027 by any of the following methods:

• Electronic Submission: Submit all electronic public comments via the Federal eRulemaking Portal. Go to www.regulations.gov/#!docketDetail;D=NOAA-NMFS-2020-0027 click the “Comment Now!” icon, complete the required fields, and enter or attach your comments.

• Mail: Barry Thom, c/o Stacey Miller, Sustainable Fisheries Division, West Coast Region, NMFS, 1201 NE Lloyd Blvd. Suite 1100, Portland, OR 97232.

Instructions: Comments sent by any other method, to any other address or individual, or received after the end of the comment period, may not be considered by NMFS. All comments received are part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic Access

This proposed rule is accessible via the internet at the Office of the Federal Register website at https://www.federalregister.gov. Background information and documents including an integrated analysis for this action (Analysis), which addresses the statutory requirements of the Magnuson Stevens Fishery Conservation and Management Act (Magnuson-Stevens Act), the National Environmental Policy Act, Presidential Executive Order 12866, and the Regulatory Flexibility Act are available at the NMFS website at https://www.fisheries.noaa.gov/action/2020-harvest-specifications-pacific-whiting-cowcod-and-shortbelly-rockfish-and-2020-pacific and at the Pacific Fishery Management Council's website at http://www.pcouncil.org/.

FOR FURTHER INFORMATION CONTACT: Stacey Miller, phone: 503-231-6290, and email: Stacey.Miller@noaa.gov.

SUPPLEMENTARY INFORMATION:

Background

This proposed rule includes actions for the Pacific whiting tribal and non-tribal fisheries, shortbelly rockfish and cowcod. These actions are combined into one proposed rule because they all relate to establishing catch limits and management measures for Pacific Coast groundfish stocks in 2020. This rule proposes determining the 2020 Pacific whiting coastwide TAC, and establishing the Pacific whiting U.S. TAC based on the coastwide TAC, tribal allocation, allocations for three commercial whiting sectors, and set-asides for research and incidental mortality of Pacific whiting as recommended by the Pacific Fishery Management Council (Council); increasing the 2020 annual catch limit (ACL) for shortbelly rockfish; and eliminating the 2020 annual catch target (ACT) and reducing the research set-aside for cowcod. The allocations for Pacific whiting would be effective until December 31, 2020. The adjusted catch limits for cowcod and shortbelly would supersede those put in place for 2020 through the 2019-2020 Pacific Coast Groundfish Biennial Harvest Specifications and Management Measures (83 FR 63970, December 12, 2018), and are being analyzed as part of the 2021-2022 Pacific Coast Groundfish Biennial Harvest Specifications and Management Measures, which are anticipated to be effective on January 1, 2021.

Pacific Whiting

Background on the Pacific Whiting Agreement

The transboundary stock of Pacific whiting is managed through the Agreement Between the Government of the United States of America and the Government of Canada on Pacific Hake/Whiting of 2003, Nov. 21, 2003, T.I.A.S. 08-625 (Agreement). The Agreement establishes bilateral bodies to implement its terms, including: The Joint Management Committee (JMC), which recommends the TAC for Pacific whiting; the Joint Technical Committee (JTC), which conducts the Pacific whiting stock assessment; the Scientific Review Group (SRG), which reviews the stock assessment; and the Advisory Panel (AP), which provides stakeholder input to the JMC.

The Agreement establishes a default harvest policy of F-40 percent, which means a fishing mortality rate that would reduce the spawning biomass, calculated on a per recruit basis, to 40 percent of what it would have been in absence of fishing mortality. The U.S. and Canada may choose a different fishing mortality rate if they determine that scientific evidence demonstrates that a different rate is necessary to sustain the offshore Pacific whiting resource. The Agreement also explicitly allocates 73.88 percent of the Pacific whiting TAC to the U.S. and 26.12 percent of the TAC to Canada.

Based on the advice from the Treaty's JTC, SRG, and AP, the Treaty specifies that the JMC shall recommend to the parties an overall Pacific whiting TAC by March 25th of each year. In years when the JMC does make a TAC recommendation to the parties, NMFS (under the delegation of authority from the Secretary of Commerce) approves the U.S. TAC with concurrence from the Department of State. The U.S. TAC is allocated into tribal and non-tribal sectors.

The 2020 JMC negotiations were held from March 11-13, 2020, via the internet, but did not result in a bilateral agreement on the coastwide TAC. Based on the most current information, the stock assessment estimates a TAC of 666,458 metric tons (mt) based on the default harvest policy. The final Canadian proposal was 390,000 mt and the final U.S. proposal was 555,000 mt for the adjusted coastwide TAC. The Agreement does not specify a procedure for when the JMC does not agree on a coastwide TAC. However, the 2006 Pacific Whiting Act (16 U.S.C. 7006(c)) identifies procedures for when the JMC does not recommend a final TAC. The Act states that NMFS (as delegated by the Secretary of Commerce) should establish the Pacific whiting TAC, taking into account recommendations from the JMC, JTC, SRG, AP, and Council. The Act requires NMFS to base the TAC decision on the best scientific information available, and use the default harvest rate unless scientific information indicates a different rate is necessary to sustain the Pacific whiting resource. The Act also requires NMFS to establish the U.S. share of the TAC based on the U.S./Canada percentage split and adjustments specified in the Agreement.

2020 Pacific Whiting Stock Assessment and Scientific Review

The JTC completed a stock assessment for Pacific whiting in February 2020 (available at https://www.fisheries.noaa.gov/resource/document/2020-pacific-hake-whiting-stock-assessment). The assessment presents a model that uses an acoustic survey biomass index, catches of the transboundary Pacific whiting stock, and age compositions to estimate the biomass of the current stock. The most recent survey, conducted collaboratively between the Canadian Department of Fisheries and Oceans and NMFS, was completed in 2019. Age-composition data from the acoustics survey and fishery catch provide information to estimate relative year class strength. Pacific whiting displays high recruitment variability relative to other west coast groundfish stocks, and typically an occasional large year-class supports much of the fishery. The Pacific whiting stock is currently supported by multiple above average cohorts simultaneously, including the 2010, 2014, 2016, and 2017 year classes, which is highly unusual. The current assessment estimates the 2010 year class as the second highest recruitment in the assessment time series. The 2014 and 2016 year classes are estimated to be above average in strength and the 2017 year is about average, however there is high uncertainty around the strength of these later year classes. The assessment estimates small year classes in 2011, 2013, 2015, and 2018, and there is no information in the data to estimate the sizes of the 2019 and 2020 year classes.

The Pacific whiting relative spawning stock is estimated to be 1.196 million mt, or 65 percent of unfished levels at the start of 2020. The estimated biomass has declined since 2017, during a time of record catches and as the very large 2010 year class ages and mortality surpasses increased production. Projections show that even in the absence of fishing, the stock is expected to decline from 65 percent to 62 percent of unfished biomass.

The stock is considered healthy, and the joint probability that the relative spawning stock biomass is both below 40 percent of unfished level and that fishing mortality is above the relative fishing intensity of the Agreement's F-40 percent default harvest rate is estimated to be 4.3 percent.

2020 Pacific Whiting TAC Evaluation and Recommendation

NMFS considered information and recommendations from the Treaty's JMC, JTC, SRG, AP, and the Council. The stock assessment from the JTC and the SRG peer review are the best scientific information available for determining the coastwide Pacific whiting TAC. NMFS heard testimony from the AP and JMC at the March 2020 meeting. The Council discussed Pacific whiting during its April 2020 meeting and did not make any specific recommendations regarding the 2020 Pacific whiting TAC.

NMFS initially considered setting the TAC resulting from the default harvest rate (666,458 mt) and all of the potential adjusted coastwide TACs discussed during the AP and JMC March 2020 meeting. This includes the U.S. initial (597,500 mt) and final positions (555,000 mt), and the Canadian initial (300,000 mt) and final positions (390,000 mt). However, because Canada's proposed TACs are well below the TACs that support a sustainable whiting resource according to the stock assessment and would have negative economic impact on the U.S. fleet with little economic impact on Canada's fleet, we excluded them from further consideration.

NMFS therefore evaluated coastwide TACs ranging from 555,000 mt to 666,458 mt in developing our proposed coastwide TAC of 575,000 mt. The stock assessment supports that most of the TACs within this range would provide adequate opportunity for both Canadian and U.S. fleets, while sustainably managing the Pacific whiting resource.

Biological Impacts of Potential Whiting TAC Levels

The Act directs NMFS to use the default harvest rate set out in the Agreement unless NMFS determines that a different rate is necessary to sustain the offshore whiting resource. The Agreement specifies a default harvest rate of “F-40 percent” which is the fishing mortality rate that would reduce the relative spawning stock biomass, calculated on a per recruit basis (a measure of stock reproductive potential) to 40 percent of what it would have been in the absence of fishing mortality. Although there is not a default biomass level, the JMC, since implementation of the Agreement, has focused on choosing a TAC designed to prevent the relative spawning stock biomass from falling below 40 percent of what it would have been in the absence of fishing mortality, often called B40. NMFS will follow the same practice of choosing a TAC designed to prevent the relative spawning stock biomass from falling below this biomass level.

To determine the impact of a specific TAC on relative spawning stock biomass, we applied an estimate of the Pacific whiting fleet's utilization rate, the proportion of the TAC removed through fishing effort, to the range of TACs we considered. Over the last ten years, neither the U.S. nor the Canadian fleets have ever caught the entire TAC. The 10-year (2010-2019) average utilization rate is 71.3 percent of the coastwide TAC. The five-year average utilization rate from 2010-2014 is higher (78.1 percent) than the ten-year average, while the 5-year average utilization rate from 2015-2019 is lower (64.5 percent). These averages provide a realistic range for projecting the utilization rates in 2020 and 2021.

The stock assessment indicates that applying any of the estimated average utilization rates to the range of coastwide TACs we considered results in relative spawning stock biomass levels above B40 percent after one fishing year (49-53 percent relative spawning stock biomass). When applying these coastwide TACs for 2 years, a TAC of 666,458 mt with the higher utilization rates at 71 percent or higher results in relative spawning stock biomass levels below B40 percent (37 and 39 percent). Using the same approach, a coastwide TAC of 597,500 mt and the highest utilization rate (78.08 percent) would also result in the relative spawning stock biomass level to fall below B40 percent by the beginning of 2022. Although the Pacific whiting TAC is set annually and could be adjusted after the 2021 stock assessment, the fact that these projections result in spawning biomass levels below B40 percent after 2 years suggests that a TAC at the default harvest level and last year's TAC (597,500 mt) may risk the sustainable management of the Pacific whiting resource.

Using the same approach as described above, TACs of 575,000 mt and 555,000 mt combined with the highest utilization rate being considered, result in a projected harvest of 448,960 mt and 433,344 mt, respectively. The stock assessment indicates that these levels of harvest in 2020 would result in an estimated relative spawning stock biomass of 51 percent at the beginning of 2021, which is well above the B40 percent level, and an estimated relative spawning stock biomass of 40—41 percent at the beginning of 2022.

Overall, the stock assessment indicates that the relative spawning stock biomass of Pacific whiting has a high probability of being lower at the beginning of 2021 than 2020, ranging from an 81 percent probability with no harvest to a 97 percent probability at the default harvest rate. Although a decline is probable even in the absence of fishing pressure, the decline is relatively modest and does not threaten the sustainability of the resource. At the actual harvest rates under consideration the stock assessment indicates there is less than 33 percent chance of relative spawning stock biomass falling below B40 percent in 1 year, a less than 10 percent probability of falling below B25 percent, and essentially no chance of falling below B10 percent after 1 year.

Continuing these harvest levels into a second year does have an increased chance of relative spawning stock biomass falling below B40 percent. Two years of actual harvests above approximately 460,000 mt result in a greater than 50 percent probability of falling below B40 percent, a 20 percent probability of falling below B25 percent, and a 4 percent probability of falling below B10 percent. The best scientific information available indicates that reduction from last year's coastwide TAC (597,500 mt), and deviation from the Act's default harvest rate, would support the long-term sustainability of the stock.

Economic Impacts of Potential Pacific Whiting TAC Levels

The Pacific whiting fishery is the highest volume fishery on the West Coast of the United States, providing hundreds of jobs. In 2019, total revenue was estimated to be $29 million in the non-tribal shoreside sector and $35 million in the at-sea whiting sector. The total non-tribal ex-vessel revenue in 2019 is estimated to have been about $64 million. This is higher than the 2015-2019 inflation-adjusted average of approximately $54 million. Maintaining access to the Pacific whiting resource is important for both direct fishery participants and West Coast fishing communities.

The starting and ending proposals from Canada, 300,000 mt and 390,000 mt, represent a 49 percent and 35 percent reduction from the 2019 TAC, respectively. Reductions of this magnitude would have negative economic impact on U.S. coastal communities. Canada's proposed TACs reflect their concern with the declining Pacific whiting biomass as the 2010 year class ages, as well as uncertainty of the recent recruitment strength since the stock assessment is not able to predict cohort strength until they are detected by the acoustic survey and fishery. However, the stock assessment indicates that the higher TACs proposed by the U.S. continue to provide a sustainable Pacific whiting resource and result in the relative spawning stock biomass levels above B40 percent after 1 year, and at or above B40 percent after 2 years of fishing. Because of these factors, NMFS has preliminarily determined that a large reduction is not appropriate but supports a measured reduction from last year's TAC.

2020 Pacific Whiting Adjusted TAC Recommendation

The Act requires NMFS to make the necessary adjustments to the TAC specified in the Agreement (Paragraph 5 of Article II). The Agreement (Paragraph 5 of Article II) requires adjustments to the coastwide TAC to account for overages if either U.S. or Canadian catch in the previous year exceeded its individual TAC, or carryovers, if U.S. or Canadian catch was less than its individual TAC in the previous year. Both the U.S. and Canada harvested less than their individual TACs in 2019, and therefore carryover is applied to the 2020 individual TACs.

Taking into account the percentage shares for each country (26.12 percent for Canada and 73.88 percent for the U.S.) and the adjustments for uncaught fish, as required by the Act, we recommend a final adjusted coastwide TAC of 575,000 mt, with a final adjusted TAC for Canada of 150,190 mt (129,822 mt + 20,367 mt carryover adjustment), and a final adjusted TAC for the US of 424,810 mt (367,202 mt + 57,608 mt carryover adjustment). This recommendation is consistent with the best available scientific information, provisions of the Agreement, and the Whiting Act.

Tribal Allocations

The regulations at 50 CFR 660.50(d) identify the procedures for implementing the treaty rights that Pacific Coast treaty Indian tribes have to harvest groundfish in their usual and accustomed fishing areas in U.S. waters. Tribes with treaty fishing rights in the area covered by the Pacific Coast Groundfish FMP request allocations, set-asides, or regulations specific to the tribes during the Council's biennial harvest specifications and management measures process. The regulations state that the Secretary will develop tribal allocations and regulations in consultation with the affected tribe(s) and, insofar as possible, with tribal consensus.

NMFS allocates a portion of the U.S. TAC of Pacific whiting to the tribal fishery, following the process established in 50 CFR 660.50(d). The tribal allocation is subtracted from the U.S. Pacific whiting TAC before allocation to the non-tribal sectors.

Four Washington coastal treaty Indian tribes including the Makah Indian Tribe, Quileute Indian Tribe, Quinault Indian Nation, and the Hoh Indian Tribe (collectively, the “Treaty Tribes”), can participate in the tribal Pacific whiting fishery. Tribal allocations of Pacific whiting have been based on discussions with the Treaty Tribes regarding their intent for those fishing years. The Hoh Tribe has not expressed an interest in participating in the Pacific whiting fishery to date. The Quileute Tribe and Quinault Indian Nation have expressed interest in beginning to participate in the Pacific whiting fishery at a future date. To date, only the Makah Tribe has prosecuted a tribal fishery for Pacific whiting, and has harvested Pacific whiting since 1996 using midwater trawl gear. Table 1 below provides a recent history of U.S. TACs and annual tribal allocation in mt.

Table 1—U.S. Total Allowable Catch and Annual Tribal Allocation in Metric Tons
Year | U.S. TAC ¹ (mt) | Tribal Allocation (mt)
2010 | 193,935 | 49,939
2011 | 290,903 | 66,908
2012 | 186,037 | 48,556
2013 | 269,745 | 63,205
2014 | 316,206 | 55,336
2015 | 325,072 | 56,888
2016 | 367,553 | 64,322
2017 | 441,433 | 77,251
2018 | 441,433 | 77,251
2019 | 441,433 | 77,251
¹ Beginning in 2012, the United States started using the term Total Allowable Catch, or TAC, based on the Agreement between the Government of the United States of America and the Government of Canada on Pacific Hake/Whiting. Prior to 2012, the terms Optimal Yield (OY) and ACL were used.

In 2009, NMFS, the states of Washington and Oregon, and the Treaty Tribes started a process to determine the long-term tribal allocation for Pacific whiting. However, these groups have not yet determined a long-term allocation. In order to ensure Treaty Tribes continue to receive allocations, this rule proposes the 2020 tribal allocation of Pacific whiting. This allocation is not intended to set precedent for future allocations.

In exchanges between NMFS and the Treaty Tribes during November and December 2019, the Makah Tribe indicated their intent to participate in the tribal Pacific whiting fishery in 2020 and requested 17.5 percent of the U.S. TAC. The Quinault Indian Nation and Quileute Indian Tribe both informed NMFS in December 2019 that they will not participate in the 2020 fishery. The Hoh Indian Tribe has, in previous years, indicated in conversations with NMFS that they have no plans to fish for whiting in the foreseeable future and will contact NMFS if that changes. NMFS will contact the Tribes during the proposed rule comment period to refine the 2020 allocation before allocating the final U.S. TAC between the tribal and non-tribal whiting fisheries. NMFS proposes a tribal allocation that accommodates the Makah Tribe's request of 17.5 percent of the U.S. TAC. The proposed 2020 U.S.TAC is 424,810 mt, and therefore the proposed 2020 tribal allocation is 74,342 mt. NMFS has determined that the current scientific information regarding the distribution and abundance of the coastal Pacific whiting stock indicates the 17.5 percent is within the range of the tribal treaty right to Pacific whiting.

Non-Tribal Research and Bycatch Set-Asides

The U.S. non-tribal whiting fishery is managed under the Council's Pacific Coast Groundfish FMP. Each year, the Council recommends the amount of Pacific whiting to accommodate incidental mortality of Pacific whiting in research activities and non-groundfish fisheries based on estimates of scientific research catch and estimated bycatch mortality in non-groundfish fisheries. At its November 2019 meeting, the Council recommended an incidental mortality set-aside of 1,500 mt for 2020. This is consistent with the amount set-aside for research and incidental mortality each year since 2014. This rule proposes the Council's recommendations.

Non-Tribal Harvest Guidelines and Allocations

In addition to the tribal allocation, this proposed rule establishes the fishery harvest guideline (HG), called the non-tribal allocation. The proposed 2020 fishery HG for Pacific whiting is 348,968 mt. This amount was determined by deducting the 74,342 mt tribal allocation and the 1,500 mt allocation for scientific research catch and fishing mortality in non-groundfish fisheries from the total U.S. TAC of 424,810 mt. The Council recommends the research and bycatch set-aside on an annual basis, based on estimates of scientific research catch and estimated bycatch mortality in non-groundfish fisheries. The regulations further allocate the fishery HG among the three non-tribal sectors of the Pacific whiting fishery: The catcher/processor (C/P) Coop Program, the Mothership (MS) Coop Program, and the Shorebased Individual Fishing Quota (IFQ) Program. The C/P Coop Program is allocated 34 percent (118,649 mt for 2020), the MS Coop Program is allocated 24 percent (83,752 mt for 2020), and the Shorebased IFQ Program is allocated 42 percent (146,567 mt for 2020). The fishery south of 42° N lat. may not take more than 7,328 mt (5 percent of the Shorebased IFQ Program allocation) prior to May 15, the start of the primary Pacific whiting season north of 42° N lat.

The environmental assessment for the 2019-2020 harvest specifications rule (see Electronic Access) analyzed a range of TAC alternatives for 2020, and the final 2020 TAC falls within this analyzed range. In addition, via the 2019-2020 harvest specifications rulemaking process, the public had an opportunity to comment on the 2019-2020 TACs for whiting, just as they did for all species in the groundfish FMP. NMFS follows this process because, unlike for all other groundfish species, the TAC for whiting is decided in a highly abbreviated annual process from February through April of every year, and the normal rulemaking process would not allow for the fishery to open with the new TAC on the annual season opening date of May 15.

Table 2—2020 Proposed Pacific Whiting Allocations in Metric Tons
Sector | 2020 Pacific whiting allocation (mt)
Tribal | 74,342
Catcher/Processor (C/P) Coop Program | 118,649
Mothership (MS) Coop Program | 83,752
Shorebased IFQ Program | 146,567

2020 Harvest Specifications for Pacific Coast Shortbelly Rockfish and Cowcod South of 40°10′ N Latitude

Shortbelly rockfish and cowcod south of 40°10′ N latitude are managed under the Pacific Coast Groundfish FMP. The FMP requires that the Council set harvest specifications and management measures for groundfish at least biennially. NMFS established 2019 and 2020 harvest specifications including overfishing limits (OFLs), allowable biological catches (ABCs), ACLs and management measures such as annual catch targets (ACTs) for groundfish stocks in December 2018 (83 FR 63970, December 12, 2018). In June 2019, the Council and NMFS received public comment from affected stakeholders that low catch limits for two stocks, cowcod south of 40°10′ N latitude and shortbelly rockfish, were preventing vessels from harvesting co-occurring healthy fish stocks because of increased bycatch levels. The Council held meetings in September and November 2019 to identify a range of alternatives for each stock and select final preferred alternatives to recommend for implementation. This proposed rule is based on the Council's final recommendations made at its November 2019 meeting. The Council deemed the proposed regulations consistent with and necessary to implement the proposed actions in a March 19, 2020 letter. The Analysis identifies the preferred alternatives and other decision points and is posted on the NMFS West Coast Region web page (see ADDRESSES) along with this proposed rule.

The Council and NMFS consider the proposed actions consistent with provisions in the Pacific Coast Groundfish FMP, which allows changes to the harvest specifications and adjustments to management measures on a schedule other than the typical biennial cycle under special circumstances.

Shortbelly Rockfish (Sebastes jordani)

This rule proposes to implement the Council recommendation from its November 2019 meeting, to increase the 2020 ACL for shortbelly rockfish to 3,000 mt. The remaining shortbelly rockfish catch limits for 2020, including the OFL and ABC, are unchanged from those implemented in the 2019-2020 Pacific Coast Groundfish Biennial Harvest Specifications (83 FR 63970, December 12, 2018). The proposed changes are summarized in Table 3 below.

Table 3—Comparison of No Action Alternative and Proposed 2020 Harvest Specifications and Management Measures for Shortbelly Rockfish in Metric Tons
| No action alternative (current 2020) | Proposed rule
OFL | 6,950 | 6,950
ABC | 5,789 | 5,789
ACL | 500 | 3,000
Fishery Harvest Guideline | 483 | 2,983

Shortbelly rockfish (Sebastes jordani) is one of the most abundant rockfish species and an important forage species in the California Current Ecosystem. Unlike most harvested Pacific coast rockfishes (e.g., bocaccio and cowcod), shortbelly rockfish are small-bodied, relatively short-lived and semi-pelagic rockfish that school as adults. Shortbelly rockfish recruitment is highly variable among years, causing populations to undergo large “booms and busts”.

Historically, shortbelly rockfish was most abundant off central California from Monterey Bay to Point Reyes, common in southern California, and only rarely encountered north of Cape Mendocino, California. In recent years, shortbelly rockfish distribution has extended north of Cape Mendocino, California and into Oregon and Washington waters, the principal fishing areas the midwater trawl fishery operates in to harvest Pacific whiting. While shortbelly rockfish bycatch was historically low in the Pacific whiting fishery, the recent shift in distribution and a likely increase in abundance, is resulting in increased bycatch of shortbelly rockfish in the Pacific whiting midwater trawl fishery.

Shortbelly rockfish was last assessed in 2007. The assessment, available on the Council's website at https://www.pcouncil.org/documents/2007/04/stock-assessment-model-for-the-shortbelly-rockfish-sebastes-jordani-in-the-california-current.pdf/, estimated the shortbelly rockfish stock to be 67 percent of unfished levels at the start of 2005. Given that the population size is known to be highly dynamic, it is possible that the population size and distribution changed in the recent years. The Analysis describes NMFS survey data, including the Southwest Fisheries Science Center's Rockfish Recruitment and Ecosystem Analysis Survey (RREAS) and California Cooperative Oceanic Fisheries Investigations (CalCOFI) and the Northwest Fisheries Science Center's West Coast Groundfish Bottom Trawl Survey. The data show extraordinarily high recruitment events occurred between 2013 and 2017, and provide evidence that the overall shortbelly rockfish population was very high in 2018-2019. The population size in southern California remains close to average levels and suggests shortbelly rockfish population did not simply shift to northern waters. Increased encounters of shortbelly rockfish in northern midwater trawl fisheries is likely the result of increased recruitment and coastwide biomass coupled with an expansion of its geographic range on the West Coast.

In addition to examining NMFS survey data for trends in shortbelly rockfish biomass and distribution, the Analysis describes that forage species other than shortbelly rockfish (specifically northern anchovy) were unusually abundant, and that there was higher than average production of several marine predators in 2018-19.

Shortbelly rockfish is not targeted by west coast fisheries. Given its importance as a forage species, the Council considered classifying shortbelly rockfish as an ecosystem component species in the 2013-14 biennial management cycle following the revision of National Standard 1 guidelines. The Council decided to retain shortbelly rockfish as a stock actively managed in the fishery in the Pacific Coast Groundfish FMP, which requires that the Council set an OFL, ABC, and ACL for this stock as part of the biennial harvest specifications process. The shortbelly rockfish default harvest control rule is used to set the ACL each biennial cycle. The current default harvest control rule is a constant catch value intended to accommodate observed bycatch levels, discourage targeting, and continue to protect the availability of shortbelly rockfish as a forage species. The Council recommended a low ACL of 50 mt in 2011-2012 Pacific Coast Groundfish Biennial Harvest Specifications and Management Measures (76 FR 27508, May 11, 2011) to discourage development of any targeted fishery, and accommodate incidental bycatch of shortbelly rockfish, while allowing the remaining harvestable surplus of the stock to be available as forage fish in the ecosystem. The ACL was increased from 50 to 500 mt in the 2015-2016 Pacific Coast Groundfish Biennial Harvest Specifications and Management Measures (80 FR 12567, March 10, 2015) to accommodate a potential increase in bycatch as a midwater rockfish fishery re-emerged following the rebuilding of widow rockfish.

Shortbelly rockfish catch remained low and well below the ACL of 500 mt until 2017 when it increased from 30 mt to 320 mt. The Analysis describes annual catch of shortbelly rockfish. High bycatch of shortbelly rockfish in the whiting sectors resulted in the fishery exceeding the ACLs in 2018 (508 mt) and 2019 (approximately 655 mt).

In the absence of this proposed rule to increase the 2020 shortbelly rockfish ACL, a future shortbelly rockfish overage could result in early closure of the Pacific whiting and non-whiting midwater trawl fisheries, which could have negative economic consequences for vessels, processors, and communities. The magnitude of economic losses due to early fishery closure from attaining the shortbelly rockfish ACL is difficult to project and is dependent on which fisheries would close and when they would close. The Analysis describes impacts of potential closures of the midwater trawl fisheries targeting whiting and pelagic rockfish that are most likely to incur a large bycatch of shortbelly rockfish and be subject to an early closure if the shortbelly rockfish ACL is attained. The range of predicted impacts in terms of foregone income is $4.6 million to $175.2 million depending on whether there is a late season closure in December or an earlier closure in June.

This action proposes changes to the shortbelly ACL are consistent with Section 5.5.1 of the Pacific Coast Groundfish FMP, which states:

“. . .OFLs, ABCs, ACLs, OYs, ACTs, HGs, and quotas may only be modified in cases where a harvest specification announced at the beginning of the biennial fishing period is found to have resulted from incorrect data or from computational errors. If the Council finds that such an error has occurred, it may recommend the Secretary publish a notice in the Federal Register revising the incorrect harvest specification at the earliest possible date.”

The 2018 West Coast Groundfish Observer Program data and estimates of shortbelly rockfish bycatch were not available when setting the 2019 and 2020 harvest specifications and this new information compels this consideration.

Increasing the shortbelly rockfish ACL to 3,000 mt for the final half of the 2020 fishing year would accommodate incidental bycatch of the shortbelly rockfish stock given recent high bycatch in groundfish trawl fisheries, while continuing to minimize bycatch, discourage development of a targeted fishery for shortbelly rockfish, and continuing to protect the availability of shortbelly rockfish as important forage in the California Current Ecosystem.

The increase of the 2020 ACL is not anticipated to induce targeting of shortbelly. Industry has indicated that shortbelly rockfish is not currently marketable and does not expect it to become so in the near future. The low ex-vessel price of $0.01-$0.03 per pound in recent years supports industry reports that the fish is primarily used as fishmeal or discarded at-sea. The median West Coast limited entry trawl permitted vessel has variable operating costs of $0.46 per pound, according to the most recent Economic Data Collection Report, and is unlikely to pursue a targeting strategy for such a low value species, as the revenues would be less than typical operating costs. Industry also provided testimony that they avoid catching shortbelly rockfish because the spines of shortbelly rockfish degrade Pacific whiting quality as they are impinged in the codend.

The proposed rule continues to protect the availability of shortbelly rockfish as important forage in the California Current Ecosystem. Scientific information currently available provides evidence of above average forage conditions in the California Current Ecosystem with higher abundances of forage species such as anchovy and a high overall shortbelly rockfish population in 2018-2019. Further, the higher ACL under the proposed rule is well below the shortbelly rockfish OFL of 6,950 mt, and ABC of 5,789 mt.

The proposed rule is an accountability measure that addresses the operational issue of a low ACL that resulted in ACL overages in 2018 and 2019. National Standard 1 Guidelines state: ”On an annual basis, the Council must determine as soon as possible after the fishing year if an ACL was exceeded. If an ACL was exceeded, AMs must be implemented as soon as possible to correct the operational issue that caused the ACL overage, as well as any biological consequences to the stock or stock complex resulting from the overage when it is known.”

The proposed increase would improve the performance and effectiveness of the ACL by increasing the ACL to better correspond with recent trends in shortbelly rockfish abundance and bycatch rates in the groundfish fishery. This would reduce the risk of an ACL overage in 2020, which would potentially close midwater trawl fisheries and cause adverse economic impacts to West Coast fishing communities while continuing to protect the availability of shortbelly rockfish as important forage in the California Current Ecosystem.

Cowcod (Sebastes levis) South of 40°10′ N Latitude

This proposed rule would remove the cowcod ACT of 6 mt and reduce the research catch set-aside to 1 mt for cowcod south of 40°10′ N. latitude in 2020. The ACL would remain at 10 mt. The 2020 cowcod annual vessel limit would increase from 858 pounds (.4 mt) to 1,264 pounds (.6 mt) for affected participants in the limited entry trawl fishery south of 40°10′ N. latitude. The proposed changes are summarized in Table 4 below. This action would reduce the risk that vessels in the trawl IFQ program reach their annual vessel limit for cowcod in 2020 and have to cease fishing in the trawl IFQ program for the remainder of the year.

Table 4—Summary of the Features of the No Action and Preferred Alternatives for Cowcod South of 40°10′ N Latitude in Metric Tons, Except Where Noted as Pounds
| No action alternative (current 2020) | Proposed rule
OFL | 76 | 76
ABC | 68 | 68
ACL | 10 | 10
Research Set-aside | 2 | 1
Fishery HG | 8 | 9
ACT | 6 | Removed
Non-Trawl Allocation (64 percent of the ACL) | 3.8 | 5.8
Trawl Allocation (36 percent of the ACL) | 2.2 | 3.2
Annual Vessel Limit (17.7 percent of trawl allocation) | 0.4 (858 pounds) | 0.6 (1,264 pounds)
Increase in vessel limit | 0 | 0.2 (406 pounds)
Increase in vessel limit (percent) | 0 | 47

Updated information on cowcod research conducted by the Northwest Fisheries Science Center and other entities indicates that a lower set-aside will accommodate planned research activities without a risk of exceeding the ACL.

Cowcod south of 40°10′ N latitude was declared overfished in January 2000. In 2001, NMFS closed most of their habitat in the Southern California Bight (SCB) south of Point Conception at 34°27′ N latitude to bottom fishing. The Council adopted and NMFS implemented a rebuilding plan for the stock under Amendment 16-3 to the Pacific Coast Groundfish FMP (69 FR 57874, September 28, 2004), revised the rebuilding plan for the stock under Amendment 16-4 in 2007 (71 FR 78638, December 29, 2006) and again under Amendment 16-5 in 2011 (76 FR 77415, December 13, 2011). Using the spawning potential ratio harvest control rate of 82.7 percent specified in the most recent rebuilding plan, the median time to rebuild was estimated to be 2068 at that time.

Harvest specifications and management measures for cowcod in the 2019-20 biennial management period were based on the 2013 rebuilding analysis and consistent with the rebuilding plan provisions. Cowcod stock assessments and rebuilding analyses are available on the Council's website at https://www.pcouncil.org/stock-assessments-star-reports-stat-reports-rebuilding-analyses-terms-of-reference/groundfish-stock-assessment-documents/. The 2013 assessment and rebuilding analysis concluded that the cowcod stock is rebuilding much more quickly than anticipated under its rebuilding plan.

The 2020 cowcod harvest specifications and management measures were established as part of the 2019-2020 Pacific Coast Groundfish Biennial Harvest Specifications and Management Measures (83 FR 63970, December 12, 2018). The Stock Assessment and Fishery Evaluation (SAFE) document posted on the Council's website at https://www.pcouncil.org/documents/2019/01/status-of-the-pacific-coast-groundfish-fishery-stock-assessment-and-fishery-evaluation-description-of-the-fishery-revised-january-2019.pdf/ contains a detailed description of cowcod, its status and management, as well as the Council's Scientific and Statistical Committee's approach for rebuilding analyses.

The Southwest Fisheries Science Center completed a new stock assessment for cowcod in 2019 and the spawning stock depletion at the start of 2019 is at 57 percent of unfished levels, which is above the 40 percent target. The 2019 stock assessment is available on the Council's website at https://www.pcouncil.org/documents/2019/10/status-of-cowcod-sebastes-levis-in-2019-october-24-2019.pdf/. NMFS declared the stock rebuilt effective September 30, 2019 in the 2019 Quarter 3 Status of the Stocks report available at https://www.fisheries.noaa.gov/national/population-assessments/fishery-stock-status-updates. As a result of the cowcod rebuilding, the Council and NMFS will consider changes to cowcod catch limits in establishing the 2021-2022 Pacific Coast Groundfish Biennial Harvest Specifications and Management Measures. This proposed rule does not consider a change to the 2020 rebuilding harvest control rule. The ACL would remain at 10 mt.

To keep mortality of the stocks managed under the Pacific Coast Groundfish FMP within the ACLs, the Council also recommends management measures. Pacific Coast Groundfish FMP Section 6.2D describes the process for modifying management measures, which includes a two Council meeting process and a regulatory amendment. Management measures are intended to rebuild overfished stocks, prevent catch from exceeding the ACLs, and allow for the harvest of healthy stocks. The 2019-2020 Pacific Coast Groundfish Biennial Harvest Specifications and Management Measures established an ACT of 6 mt for both 2019 and 2020 to address the uncertainty in research impacts and ensure total mortality is within the ACL. The ACT functions as a fishery harvest guideline and is the amount allocated across groundfish trawl and non-trawl fisheries. The current specifications allocated 2 mt of cowcod for research. Updated information on cowcod research is now available and indicates that a lower set-aside of 1 mt would accommodate planned research activities. Over the past several years, cowcod harvest has consistently been far below the ACL and ACT.

The Pacific Coast Groundfish Trawl Catch Share Program (75 FR 60868, October 1, 2010 and 75 FR 78343, December 15, 2010) issued IFQ to limited entry trawl participants. In addition to IFQ, the program established annual vessel limits for IFQ species to prevent any one entity from having excessive control of a stock during a fishing year. The 2020 cowcod annual vessel limit of 858 pounds (389.182 kg) is based on an apportionment (17.7 percent) of the trawl allocation of the 6 mt ACT (Table 3).

The low overall catch limits of cowcod have prevented the Shorebased IFQ bottom trawlers from accessing healthy co-occurring groundfish stocks and in some years have resulted in vessels ending their fishing season early. Although the cowcod stock is now rebuilt, the timing of the biennial groundfish specification cycle means that the fleet would not benefit from less restrictive cowcod catch limits until 2021. This proposed action would reduce the risk that vessels fishing south of 40°10′ N lat. in the groundfish trawl IFQ program would reach their annual vessel limit for cowcod in 2020 and have to cease fishing in the trawl IFQ program for the remainder of the year, which would result in severe adverse economic impacts for those vessels and the fishing communities reliant on the trawl fishery south of 40°10′ N lat.

This proposed rule would be implemented under the statutory and regulatory authority of section 304(b) and 305(d) of the Magnuson-Stevens Act, and the Pacific Whiting Act of 2006. With this proposed rule, NMFS, acting on behalf of the Secretary, would ensure that the FMP is implemented in a manner consistent with treaty rights of four Treaty Tribes to fish in their “usual and accustomed grounds and stations” in common with non-tribal citizens. United States v. Washington, 384 F. Supp. 313 (W.D. Wash. 1974).

III. Classification

NMFS notes that the public comment period for this proposed rule is 15 days. As a result of the requirements to amend reallocation provisions and announce Pacific whiting harvest guidelines by the Pacific whiting season start date, May 15th, NMFS has determined that a 15-day comment period best balances the interest in allowing the public adequate time to comment on the proposed measures while implementing the management measures and announcing the Pacific whiting allocations.

Pursuant to section 304 (b)(1)(A) and 305 (d) of the Magnuson-Stevens Act, the NMFS Assistant Administrator has determined that this proposed rule is consistent with the Pacific Coast Groundfish FMP, other provisions of the Magnuson-Stevens Act, and other applicable law, subject to further consideration after public comment. In making its final determination, NMFS will take into account the complete record, including the data, views, and comments received during the comment period.

Pursuant to Executive Order 13175, this proposed rule was developed after meaningful consultation and collaboration with tribal officials from the area covered by the Pacific Coast Groundfish FMP. Under the Magnuson-Stevens Act at 16 U.S.C. 1852(b)(5), one of the voting members of the Pacific Council must be a representative of an Indian tribe with federally recognized fishing rights from the area of the Council's jurisdiction. In addition, regulations implementing the Pacific Coast Groundfish FMP establish a procedure by which the tribes with treaty fishing rights in the area covered by the Pacific Coast Groundfish FMP request new allocations or regulations specific to the tribes, in writing, before the first of the two meetings at which the Council considers groundfish management measures. The regulations at 50 CFR 660.324(d) further state, “the Secretary will develop tribal allocations and regulations under this paragraph in consultation with the affected tribe(s) and, insofar as possible, with tribal consensus.” The tribal management measures in this proposed rule have been developed following these procedures.

The Office of Management and Budget has determined that this proposed rule is not significant for purposes of Executive Order 12866. This proposed rule is not an Executive Order 13771 regulatory action because this rule is not significant under Executive Order 12866.

The Council and NMFS prepared an Integrated Analysis for the shortbelly rockfish and cowcod actions, which address the statutory requirements of the Magnuson-Stevens Act, the National Environmental Policy Act, Presidential Executive Order 12866, and the Regulatory Flexibility Act. As part of this Analysis, an environmental assessment (EA) was prepared that describes the impact on the human environment that would result from implementation of the proposed shortbelly rockfish action. The full suite of alternatives analyzed by the Council can be found on the Council's website at www.pcouncil.org. This Analysis does not contain all the alternatives because a range of potential total harvest levels for Pacific whiting and cowcod, which these actions would simply allocate among user groups, have been considered under the Final Environmental Impact Statement for Harvest Specifications and Management Measures for 2015-2016 and Biennial Periods thereafter (2015/16 FEIS) and in the Environmental Assessment for Harvest Specifications and Management Measures for 2019-2020 and Biennial Periods Thereafter and is available from NMFS (see ADDRESSES). The 2015/16 FEIS examined the harvest specifications and management measures for 2015-16 and 10 year projections for routinely adjusted harvest specifications and management measures. The 10 year projections were produced to evaluate the impacts of the ongoing implementation of harvest specifications and management measures and to evaluate the impacts of the routine adjustments that are the main component of each biennial cycle. Therefore, the EA for the 2019-20 cycle tiers from the 2015/16 FEIS and focuses on the harvest specifications and management measures that were not within the scope of the 10 year projections in the 2015/16 FEIS. A copy of the EA for shortbelly rockfish, which is included as part of the Analysis, is available from NMFS (see ADDRESSES). This action also announces a public comment period on the EA for shortbelly rockfish.

Initial Regulatory Flexibility Analyses (IRFA) were prepared for this action, as required by section 603 of the Regulatory Flexibility Act (RFA). The IRFA describes the economic impact this proposed rule, if adopted, would have on small entities. A description of the action, why it is being considered, and the legal basis for this action is contained in the SUMMARY section and at the beginning of the SUPPLEMENTARY INFORMATION section of the preamble. A summary of the IRFA follow. Copies of the IRFAs are available from NMFS (See ADDRESSES).

Under the RFA, the term “small entities” includes small businesses, small organizations, and small governmental jurisdictions. The Small Business Administration has established size criteria for entities involved in the fishing industry that qualify as small businesses. A business involved in fish harvesting is a small business if it is independently owned and operated and not dominant in its field of operation (including its affiliates) and if it has combined annual receipts, not in excess of $11 million for all its affiliated operations worldwide (see 80 FR 81194, December 29, 2015). A wholesale business servicing the fishing industry is a small business if it employs 100 or fewer persons on a full time, part time, temporary, or other basis, at all its affiliated operations worldwide. A seafood processor is a small business if it is independently owned and operated, not dominant in its field of operation, and employs 750 or fewer persons on a full time, part time, temporary, or other basis, at all its affiliated operations worldwide. For purposes of rulemaking, NMFS is also applying the seafood processor standard to catcher processors because Pacific whiting Catcher-Processors (C/Ps) earn the majority of the revenue from processed seafood product.

Description and Estimate of the Number of Small Entities to Which the Rule Applies, and Estimate of Economic Impacts by Entity Size and Industry

This proposed rule would affect how Pacific whiting is allocated to the following sectors/programs: Tribal, Shorebased IFQ Program Trawl Fishery, MS Coop Program Whiting At-sea Trawl Fishery, and C/P Coop Program Whiting At-sea Trawl Fishery. The amount of Pacific whiting allocated to these sectors is based on the U.S. TAC. We expect one tribal entity to fish for Pacific whiting in 2020. Tribes are not considered small entities for the purposes of RFA. Impacts to tribes are nevertheless considered in this analysis. As of January 2020, the Shorebased IFQ Program is composed of 167 Quota Share permits/accounts (134 of which were allocated whiting quota pounds), and 41 first receivers, two of which are designated as whiting-only receivers and 15 that may receive both whiting and non-whiting. These regulations also directly affect participants in the MS Co-op Program, a general term to describe the limited access program that applies to eligible harvesters and processors in the MS sector of the Pacific whiting at-sea trawl fishery. This program currently consists of six MS processor permits, and a catcher vessel fleet currently composed of a single co-op, with 34 Mothership/Catcher Vessel (MS/CV) endorsed permits (with three permits each having two catch history assignments). These regulations also directly affect the C/P Co-op Program, composed of 10 C/P endorsed permits owned by three companies that have formed a single coop. These co-ops are considered large entities from several perspectives; they have participants that are large entities, and have in total more than 750 employees worldwide including affiliates. Although there are three non-tribal sectors, many companies participate in two sectors and some participate in all three sectors. As part of the permit application processes for the non-tribal fisheries, based on a review of the Small Business Administration size criteria, permit applicants are asked if they considered themselves a “small” business, and they are asked to provide detailed ownership information. Data on employment worldwide, including affiliates, are not available for these companies, which generally operate in Alaska as well as the West Coast and may have operations in other countries as well. NMFS has limited entry permit holders self-report size status. For 2020, all 10 CP permits reported they are not small businesses, as did 8 mothership catcher vessels. There is substantial, but not complete overlap between permit ownership and vessel ownership so there may be a small number of additional small entity vessel owners who will be impacted by this rule. After accounting for cross participation, multiple QS account holders, and affiliation through ownership, NMFS estimates that there are 106 non-tribal entities directly affected by these proposed regulations, 85 of which are considered “small” businesses.

This rule will allocate Pacific whiting between tribal and non-tribal harvesters (a mixture of small and large businesses). Tribal fisheries consist of a mixture of fishing activities that are similar to the activities that non-tribal fisheries undertake. Tribal harvests may be delivered to both shoreside plants and motherships for processing. These processing facilities also process fish harvested by non-tribal fisheries. The effect of the tribal allocation on non-tribal fisheries will depend on the level of tribal harvests relative to their allocation and the reapportionment process. If the tribes do not harvest their entire allocation, there are opportunities during the year to reapportion unharvested tribal amounts to the non-tribal fleets. For example, in 2019 NMFS reapportioned 40,000 mt of the original 77,251 mt tribal allocation. This reapportionment was based on conversations with the tribes and the best information available at the time, which indicated that this amount would not limit tribal harvest opportunities for the remainder of the year. The reapportioning process allows unharvested tribal allocations of Pacific whiting to be fished by the non-tribal fleets, benefitting both large and small entities. The revised Pacific whiting allocations for 2019 following the reapportionment were: Tribal 37,251 mt, C/P Co-op 136,912 mt; MS Co-op 96,644 mt; and Shorebased IFQ Program 169,126 mt.

The prices for Pacific whiting are largely determined by the world market because most of the Pacific whiting harvested in the U.S. is exported. The U.S. Pacific whiting TAC is highly variable, as have subsequent harvests and ex-vessel revenues. For the years 2015 to 2019, the total Pacific whiting fishery (tribal and non-tribal) averaged harvests of approximately 281,205 mt annually. The 2019 U.S. non-tribal fishery had a catch of approximately 312,500 mt, and the tribal fishery landed approximately 4,000 mt.

Impacts to Makah catcher vessels who elect to participate in the tribal fishery are measured with an estimate of ex-vessel revenue. In lieu of more complete information on tribal deliveries, total ex-vessel revenue is estimated with the 2019 average shoreside ex-vessel price of Pacific whiting, which was $200 per mt. At that price, the proposed 2020 tribal allocation of 74,342 mt would have an ex-vessel value of $14.9 million.

Shortbelly Rockfish

The proposed rule would primarily affect limited entry trawl vessels, especially midwater trawl vessels targeting Pacific whiting and semi-pelagic rockfish (i.e., non-whiting) north of 40°10′ N latitude given the sectors and gear experiencing the highest bycatch of shortbelly rockfish in recent years. The entities fishing for Pacific whiting (described in detail above), and the 14-20 vessels fishing in the non-whiting midwater trawl fishery in 2017-2018, would be affected. The preferred shortbelly rockfish alternative would have neutral to positive impacts for limited entry trawl participants fishing in the Pacific whiting and non-whiting midwater fisheries.

Cowcod South of 40°10′ N Latitude

The proposed rule would directly impact two groups: Quota share owners of cowcod south of 40°10′ N latitude and catcher vessel owners who operate vessels south of 40°10′ N latitude and have the potential to encounter cowcod. There are 62 entities that own 2020 cowcod quota and 7 vessels that caught cowcod south of 40°10′ N. latitude in 2019 that would be impacted by this rule. The preferred cowcod alternative would have neutral to positive impacts for limited entry trawl participants who own quota for this species and/or fish south of 40°10′ N latitude. Quota owners that are able to sell increased quota amounts may benefit. Most IFQ vessels do not operate south of 40°10′ N latitude and would experience no impacts from the preferred alternative.

A Description of any Significant Alternatives to the Proposed Rule That Accomplish the Stated Objectives of Applicable Statutes and That Minimize any Significant Economic Impact of the Proposed Rule on Small Entities

NMFS considered two alternatives for the Pacific whiting action: The “No Action” and the “Proposed Action.” NMFS considered a range of alternatives for the Pacific whiting coastwide TAC. A coastwide TAC of 555,000 mt has greater economic impacts for 2020 than what is proposed is this rule (a coastwide TAC of 575,000 mt). Higher coastwide TACs considered in the range (597,500 mt and 666,480 mt) would have less economic impact for 2020. However, 2020 assessment projections indicate these higher catch levels may result in near-term stock biomass declines below target levels. This is contrary to the Whiting Act and Agreement, which requires sustainable management of the Pacific whiting resource.

NMFS did not consider a broader range of alternatives to the proposed tribal allocation. The tribal allocation is based primarily on the requests of the tribes. These requests reflect the level of participation in the fishery that will allow them to exercise their treaty right to fish for Pacific whiting. Under the Proposed Action alternative, NMFS proposes to set the tribal allocation percentage at 17.5 percent, as requested by the Tribes. This would yield a tribal allocation of 74,342 mt for 2020. Consideration of a percentage lower than the tribal request of 17.5 percent is not appropriate in this instance. As a matter of policy, NMFS has historically supported the harvest levels requested by the Tribes. Based on the information available to NMFS, the tribal request is within their tribal treaty rights. A higher percentage would arguably also be within the scope of the treaty right. However, a higher percentage would unnecessarily limit the non-tribal fishery.

Under the no action alternative, NMFS would not set a coastwide TAC or make an allocation to the tribal sector. This alternative was considered, but the Act requires the U.S. to establish TACs to sustainably manage the Pacific whiting resource. The regulatory framework provides for a tribal allocation on an annual basis only. Therefore, the no action alternative would result in no allocation of Pacific whiting to the tribal sector in 2020, which would be inconsistent with NMFS' responsibility to manage the fishery consistent with the tribes' treaty rights. Given that there is a tribal request for allocation in 2020, this alternative received no further consideration.

Shortbelly Rockfish

The Council and NMFS considered three alternatives for shortbelly rockfish: No action, specifying a 2020 ACL of 3,000 mt and specifying a 2020 ACL of 4,184 mt. Under the no action alternative, NMFS would not change the 2020 ACL for shortbelly rockfish. This no action alternative has the highest risk of an early fishery closure and lost revenue for Pacific whiting and LE non-whiting midwater trawl fisheries and communities. The range of predicted impacts in terms of foregone income is $4.6 million to $175.2 million depending on whether there is a late season closure in December or an earlier closure in June.

The proposed measure for shortbelly rockfish would reduce the risk of an early closure for midwater trawl fisheries due to the possibility of high bycatch of shortbelly rockfish in 2020, and avoid the adverse economic impacts to West Coast fishing communities that would result from such closures or constraints. The proposed measure to establish the 2020 ACL at 3,000 mt rather than the alternative of 4,184 mt, should be sufficient to avoid constraining the midwater trawl fishery while continuing to ensure more than adequate shortbelly rockfish as forage.

Cowcod

The Council and NMFS considered no action and alternatives to provide relief on limited entry trawl participants fishing south of 40°10′ N latitude, including removing the ACT and adjustments to the research set-aside amounts. Under the no action alternative, NMFS would not change the ACT or research set-aside amounts. This no action alternative would result in potential loss of revenue if vessels reach their cowcod individual vessel limit and are required to cease fishing for the remainder of the year.

The proposed measure for cowcod would eliminate the 2020 ACT of 6 mt for cowcod south of 40°10′ N latitude and reduce the research set-aside amount to 1 mt. The annual vessel limit for cowcod would increase from 858 lbs (.4 mt) to 1,264 lbs (.6 mt). This alternative meets the stated purpose and need to reduce the risk that IFQ vessels south of 40°10′ N latitude will reach their individual vessel limits of cowcod in 2020 and have to cease fishing in the IFQ fishery for the remainder of the year, which would result in adverse economic impacts on those vessels and fishing communities in the area. The Council considered an alternative to remove the ACT of 6 mt and reduce the research set-aside to 0.5 mt. This alternative may have resulted in a lesser economic impact on vessels and fishing communities, but it did not provide an adequate amount of cowcod for research.

Regulatory Flexibility Act (RFA) Determination of No Significant Impact

NMFS determined this proposed rule would not adversely affect small entities. The reapportioning process allows unharvested tribal allocations of Pacific whiting, fished by small entities, to be fished by the non-tribal fleets, benefitting both large and small entities. The shortbelly and cowcod measures will assist small entities by reducing the risk of early closures due to bycatch. The shortbelly rockfish and cowcod measures are temporary and will be in effect for less than 1 year.

NMFS has prepared IRFAs and is requesting comments on this conclusion. See ADDRESSES.

There are no reporting, recordkeeping or other compliance requirements in the proposed rule.

No Federal rules have been identified that duplicate, overlap, or conflict with this action.

List of Subjects in 50 CFR Part 660

Fisheries, Fishing, Indian Fisheries.

Dated: April 13, 2020.
Samuel D. Rauch III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq., 16 U.S.C. 773 et seq., and 16 U.S.C. 7001 et seq.

2. In § 660.50, revise paragraph (f)(4) to read as follows:

§ 660.50 Pacific Coast treaty Indian fisheries.

* * * * *

(f) * * *

(4) Pacific whiting. The tribal allocation for 2020 will be 74,342 mt.

* * * * *

3. Revise table 2a to part 660, subpart C, to read as follows:

Table 2a to Part 660, Subpart C—2020, and Beyond, Specification of OFL, ABC, ACL, ACT and Fishery Harvest Guidelines
[Weights in metric tons]
Stocks/stock complexes | Area | OFL | ABC | ACL ᵃ | Fishery HG ᵇ
COWCOD ᶜ | S of 40°10′ N lat | 76 | 68 | 10 | 9
COWCOD | (Conception) | 62 | 57 | NA | NA
COWCOD | (Monterey) | 13 | 11 | NA | NA
YELLOWEYE ROCKFISH ᵈ | Coastwide | 84 | 77 | 49 | 43
Arrowtooth Flounder ᵉ | Coastwide | 15,306 | 12,750 | 12,750 | 10,655
Big Skate ᶠ | Coastwide | 541 | 494 | 494 | 452
Black Rockfish ᵍ | California (S of 42° N lat.) | 341 | 326 | 326 | 325
Black Rockfish ʰ | Washington (N of 46°16′ N lat.) | 311 | 297 | 297 | 279
Bocaccio ⁱ | S of 40°10′ N lat | 2,104 | 2,011 | 2,011 | 1,965
Cabezon ʲ | California (S of 42° N lat.) | 153 | 146 | 146 | 146
California Scorpionfish ᵏ | S of 34°27′ N lat | 331 | 307 | 307 | 305
Canary Rockfish ˡ | Coastwide | 1,431 | 1,368 | 1,368 | 1,301
Chilipepper Rockfish ᵐ | S of 40°10′ N lat | 2,521 | 2,410 | 2,410 | 2,325
Darkblotched Rockfish ⁿ | Coastwide | 853 | 815 | 815 | 781
Dover Sole° | Coastwide | 92,048 | 87,998 | 50,000 | 48,404
English Sole ᵖ | Coastwide | 11,101 | 10,135 | 10,135 | 9,919
Lingcod q | N of 40°10′ N lat | 4,768 | 4,558 | 4,541 | 4,263
Lingcod ʳ | S of 40°10′ N lat | 977 | 934 | 869 | 858
Longnose Skate ˢ | Coastwide | 2,474 | 2,365 | 2,000 | 1,852
Longspine Thornyhead ᵗ | N of 34°27′ N lat | 3,901 | 3,250 | 2,470 | 2,420
Longspine Thornyhead ᵘ | S of 34°27′ N lat |  |  | 780 | 779
Pacific Cod ᵛ | Coastwide | 3,200 | 2,221 | 1,600 | 1,094
Pacific Whiting ʷ | Coastwide | 666,458 | ( ʷ) | ( ʷ) | 348,968
Pacific Ocean Perch ˣ | N of 40°10′ N lat | 4,632 | 4,229 | 4,229 | 4,207
Petrale Sole ʸ | Coastwide | 2,976 | 2,845 | 2,845 | 2,524
Sablefish ᶻ | N of 36° N lat | 8,648 | 7,896 | 5,723 | See Table 2c
Sablefish ᵃᵃ | S of 36° N lat |  |  | 2,032 | 2,028
Shortbelly Rockfish ᵇᵇ | Coastwide | 6,950 | 5,789 | 3,000 | 2,983
Shortspine Thornyhead ᶜᶜ | N of 34°27′ N lat | 3,063 | 2,551 | 1,669 | 1,604
Shortspine Thornyhead ᵈᵈ | S of 34°27′ N lat |  |  | 883 | 882
Spiny Dogfish ᵉᵉ | Coastwide | 2,472 | 2,059 | 2,059 | 1,726
Splitnose Rockfish ᶠᶠ | S of 40°10′ N lat | 1,810 | 1,731 | 1,731 | 1,714
Starry Flounder ᵍᵍ | Coastwide | 652 | 452 | 452 | 433
Widow Rockfish ʰʰ | Coastwide | 11,714 | 11,199 | 11,199 | 10,951
Yellowtail Rockfish ⁱⁱ | N of 40°10′ N lat | 6,261 | 5,986 | 5,986 | 4,941
Black Rockfish/Blue Rockfish/Deacon Rockfish ʲʲ | Oregon (Between 46°16′ N lat. and 42° N lat.) | 670 | 611 | 611 | 609
Cabezon/Kelp Greenling ᵏᵏ | Oregon (Between 46°16′ N lat. and 42° N lat.) | 216 | 204 | 204 | 204
Cabezon/Kelp Greenling ˡˡ | Washington (N of 46°16′ N lat.) | 12 | 10 | 10 | 10
Nearshore Rockfish ᵐᵐ | N of 40°10′ N lat | 92 | 82 | 82 | 79
Shelf Rockfish ⁿⁿ | N of 40°10′ N lat | 2,302 | 2,048 | 2,048 | 1,971
Slope Rockfish ᵒᵒ | N of 40°10′ N lat | 1,873 | 1,732 | 1,732 | 1,651
Nearshore Rockfish ᵖᵖ | S of 40°10′ N lat | 1,322 | 1,165 | 1,163 | 1,159
Shelf Rockfish qq | S of 40°10′ N lat | 1,919 | 1,626 | 1,625 | 1,546
Slope Rockfish ʳʳ | S of 40°10′ N lat | 855 | 743 | 743 | 723
Other Flatfish ˢˢ | Coastwide | 8,202 | 6,041 | 6,041 | 5,792
Other Fish ᵗᵗ | Coastwide | 286 | 239 | 239 | 230
ᵃ Annual catch limits (ACLs), annual catch targets (ACTs) and harvest guidelines (HGs) are specified as total catch values.
ᵇ Fishery HGs means the HG or quota after subtracting Pacific Coast treaty Indian tribes allocations and projected catch, projected research catch, deductions for fishing mortality in non-groundfish fisheries, and deductions for EFPs from the ACL or ACT.
ᶜ Cowcod south of 40°10′ N lat. 1 mt is deducted from the ACL to accommodate EFP fishing (less than 0.1 mt) and research activity, resulting in a fishery HG of 9 mt. Any additional mortality in research activities will be deducted from the ACL.
ᵈ Yelloweye rockfish. The 49 mt ACL is based on the current rebuilding plan with a target year to rebuild of 2029 and an SPR harvest rate of 65 percent. 6.1 mt is deducted from the ACL to accommodate the Tribal fishery (2.3 mt), the incidental open access fishery (0.62 mt), EFP catch (0.24 mt) and research catch (2.92 mt), resulting in a fishery HG of 43 mt. The non-trawl HG is 39.5 mt. The non-nearshore HG is 2.1 mt and the nearshore HG is 6.2 mt. Recreational HGs are: 10.2 mt (Washington); 9.1 mt (Oregon); and 11.9 mt (California). In addition, there are the following ACTs: Non-nearshore (1.7 mt), nearshore (4.9 mt), Washington recreational (8.1 mt), Oregon recreational (7.2 mt), and California recreational (9.4 mt).
ᵉ Arrowtooth flounder. 2,094.9 mt is deducted from the ACL to accommodate the Tribal fishery (2,041 mt), the incidental open access fishery (40.8 mt), EFP fishing (0.1 mt), and research catch (13 mt), resulting in a fishery HG of 10,655 mt.
ᶠ Big skate. 41.9 mt is deducted from the ACL to accommodate the Tribal fishery (15 mt), the incidental open access fishery (21.3 mt), EFP fishing (0.1 mt), and research catch (5.5 mt), resulting in a fishery HG of 452 mt.
ᵍ Black rockfish (California). 1.3 mt is deducted from the ACL to accommodate EFP fishing (1.0 mt) and the incidental open access fishery (0.3 mt), resulting in a fishery HG of 325 mt.
ʰ Black rockfish (Washington). 18.1 mt is deducted from the ACL to accommodate the Tribal fishery (18 mt) and research catch (0.1 mt), resulting in a fishery HG of 279 mt.
ⁱ Bocaccio south of 40°10′ N lat. The stock is managed with stock-specific harvest specifications south of 40°10′ N lat. and within the Minor Shelf Rockfish complex north of 40°10′ N lat. 46.1 mt is deducted from the ACL to accommodate the incidental open access fishery (0.5 mt), EFP catch (40 mt) and research catch (5.6 mt), resulting in a fishery HG of 1,965 mt. The California recreational fishery has an HG of 827.2 mt.
ʲ Cabezon (California). 0.3 mt is deducted from the ACL to accommodate the incidental open access fishery, resulting in a fishery HG of 146 mt.
ᵏ California scorpionfish south of 34°27′ N lat. 2.4 mt is deducted from the ACL to accommodate the incidental open access fishery (2.2 mt) and research catch (0.2 mt), resulting in a fishery HG of 305 mt.
ˡ Canary rockfish. 67.1 mt is deducted from the ACL to accommodate the Tribal fishery (50 mt), the incidental open access fishery (1.3 mt), EFP catch (8 mt), and research catch (7.8 mt), resulting in a fishery HG of 1,301 mt. Recreational HGs are: 44.3 mt (Washington); 66.5 mt (Oregon); and 119.7 mt (California).
ᵐ Chilipepper rockfish south of 40°10′ N lat. Chilipepper are managed with stock-specific harvest specifications south of 40°10′N lat. and within the Minor Shelf Rockfish complex north of 40°10′ N lat. 84.9 mt is deducted from the ACL to accommodate the incidental open access fishery (11.5 mt), EFP fishing (60 mt), and research catch (13.4 mt), resulting in a fishery HG of 2,325 mt.
ⁿ Darkblotched rockfish. 33.8 mt is deducted from the ACL to accommodate the Tribal fishery (0.2 mt), the incidental open access fishery (24.5 mt), EFP catch (0.6 mt), and research catch (8.5 mt) resulting in a fishery HG of 781 mt.
ᵒDover sole. 1,595.6 mt is deducted from the ACL to accommodate the Tribal fishery (1,497 mt), the incidental open access fishery (49.3 mt), EFP fishing (0.1 mt), and research catch (49.2 mt), resulting in a fishery HG of 48,404 mt.
ᵖ English sole. 216.2 mt is deducted from the ACL to accommodate the Tribal fishery (200 mt), the incidental open access fishery (8.1 mt), EFP fishing (0.1 mt), and research catch (8 mt), resulting in a fishery HG of 9,919 mt.
q Lingcod north of 40°10′ N lat. 278 mt is deducted from the ACL for the Tribal fishery (250 mt), the incidental open access fishery (9.8 mt), EFP catch (1.6 mt) and research catch (16.6 mt), resulting in a fishery HG of 4,263 mt.
ʳ Lingcod south of 40°10′ N lat. 11.3 mt is deducted from the ACL to accommodate the incidental open access fishery (8.1 mt) and research catch (3.2 mt), resulting in a fishery HG of 858 mt.
ˢ Longnose skate. 148.3 mt is deducted from the ACL to accommodate the Tribal fishery (130 mt), incidental open access fishery (5.7 mt), EFP catch (0.1 mt), and research catch (12.5 mt), resulting in a fishery HG of 1,852 mt.
ᵗ Longspine thornyhead. 50.4 mt is deducted from the ACL to accommodate the Tribal fishery (30 mt), the incidental open access fishery (6.2 mt), and research catch (14.2 mt), resulting in a fishery HG of 2,420 mt.
ᵘ Longspine thornyhead south of 34°27′ N lat. 1.4 mt is deducted from the ACL to research catch, resulting in a fishery HG of 779 mt.
ᵛ Pacific cod. 506.2 mt is deducted from the ACL to accommodate the Tribal fishery (500 mt), EFP catch (0.1 mt), research catch (5.5 mt), and the incidental open access fishery (0.6 mt), resulting in a fishery HG of 1,094 mt.
ʷ Pacific whiting. The 2020 OFL of 666,458 mt is based on the 2020 assessment with an F40% of FMSY proxy. The proposed 2020 coastwide adjusted Total Allowable Catch (TAC) is 575,000 mt. The U.S. TAC is 73.88 percent of the coastwide TAC. The proposed 2020 adjusted U.S. TAC is 424,810 mt (367,202 mt unadjusted TAC + 57,608 mt carryover adjustment). From the adjusted U.S. TAC, 74,342 mt is deducted to accommodate the Tribal fishery, and 1,500 mt is deducted to accommodate research and bycatch in other fisheries, resulting in a 2020 fishery HG of 348,968 mt. The TAC for Pacific whiting is established under the provisions of the Agreement with Canada on Pacific Hake/Whiting and the Pacific Whiting Act of 2006, 16 U.S.C. 7001-7010, and the international exception applies. Therefore, no ABC or ACL values are provided for Pacific whiting.
ˣ Pacific ocean perch north of 40°10′ N lat. 22.4 mt is deducted from the ACL to accommodate the Tribal fishery (9.2 mt), the incidental open access fishery (10 mt), EFP fishing (0.1 mt), and research catch (3.1 mt)-resulting in a fishery HG of 4,207 mt.
ʸ Petrale sole. 320.6 mt is deducted from the ACL to accommodate the Tribal fishery (290 mt), the incidental open access fishery (6.4 mt), EFP catch (0.1 mt), and research catch (24.1 mt), resulting in a fishery HG of 2,524 mt.
ᶻ Sablefish north of 36° N lat. The 40-10 adjustment is applied to the ABC to derive a coastwide ACL value because the stock is in the precautionary zone. This coastwide ACL value is not specified in regulations. The coastwide ACL value is apportioned north and south of 36° N lat., using the 2003-2014 average estimated swept area biomass from the NMFS NWFSC trawl survey, with 73.8 percent apportioned north of 36° N lat. and 26.2 percent apportioned south of 36° N lat. The northern ACL is 5,723 mt and is reduced by 572 mt for the Tribal allocation (10 perceN of the ACL north of 36° N lat.). The 572 mt Tribal allocation is reduced by 1.5 percent to account for discard mortality. Detailed sablefish allocations are shown in Table 2c.
ᵃᵃ Sablefish south of 36° N lat. The ACL for the area south of 36° N lat. is 2,032 mt (26.2 percent of the calculated coastwide ACL value). 4.2 mt is deducted from the ACL to accommodate the incidental open access fishery (1.8 mt) and research catch (2.4 mt), resulting in a fishery HG of 2,028 mt.
ᵇᵇ Shortbelly rockfish. 17.2 mt is deducted from the ACL to accommodate the incidental open access fishery (8.9 mt), EFP catch (0.1 mt), and research catch (8.2 mt), resulting in a fishery HG of 2,983 mt.
ᶜᶜ Shortspine thornyhead north of 34°27′ N lat. 65.3 mt is deducted from the ACL to accommodate the Tribal fishery (50 mt), the incidental open access fishery (4.7 mt), EFP catch (0.1 mt), and research catch (10.5 mt), resulting in a fishery HG of 1,604 mt for the area north of 34°27′ N lat.
ᵈᵈ Shortspine thornyhead south of 34°27′ N lat. 1.2 mt is deducted from the ACL to accommodate the incidental open access fishery (0.5 mt) and research catch (0.7 mt), resulting in a fishery HG of 882 mt for the area south of 34°27′ N lat.
ᵉᵉ Spiny dogfish. 333 mt is deducted from the ACL to accommodate the Tribal fishery (275 mt), the incidental open access fishery (22.6 mt), EFP catch (1.1 mt), and research catch (34.3 mt), resulting in a fishery HG of 1,726 mt.
ᶠᶠ Splitnose rockfish south of 40°10′ N lat. Splitnose rockfish in the north is managed in the Slope Rockfish complex and with stock-specific harvest specifications south of 40°10′ N lat. 16.6 mt is deducted from the ACL to accommodate the incidental open access fishery (5.8 mt), research catch (9.3 mt) and EFP catch (1.5 mt), resulting in a fishery HG of 1,714 mt.
ᵍᵍ Starry flounder. 18.8 mt is deducted from the ACL to accommodate the Tribal fishery (2 mt), EFP catch (0.1 mt), research catch (0.6 mt), and the incidental open access fishery (16.1 mt), resulting in a fishery HG of 433 mt.
ʰʰ Widow rockfish. 248.4 mt is deducted from the ACL to accommodate the Tribal fishery (200 mt), the incidental open access fishery (3.1 mt), EFP catch (28 mt) and research catch (17.3 mt), resulting in a fishery HG of 10,951 mt.
ⁱⁱ Yellowtail rockfish north of 40°10′ N lat. 1,045.1 mt is deducted from the ACL to accommodate the Tribal fishery (1,000 mt), the incidental open access fishery (4.5 mt), EFP catch (20 mt) and research catch (20.6 mt), resulting in a fishery HG of 4,941 mt.
ʲʲ Black rockfishBlue rockfishDeacon rockfish (Oregon). 1.2 mt is deducted from the ACL to accommodate the incidental open access fishery (0.3 mt) and EFP catch (0.9 mt), resulting in a fishery HG of 609 mt.
ᵏᵏ CabezonKelp greenling (Oregon). 0.2 mt is deducted from the ACL to accommodate EFP catch, resulting in a fishery HG of 204 mt.
ˡˡ CabezonKelp greenling (Washington). There are no deductions from the ACL so the fishery HG is equal to the ACL of 10 mt.
ᵐᵐ Nearshore Rockfish north of 40°10′ N lat. 2.8 mt is deducted from the ACL to accommodate the Tribal fishery (1.5 mt), EFP catch (0.1 mt), research catch (0.3), and the incidental open access fishery (0.9 mt), resulting in a fishery HG of 79 mt.
ⁿⁿ Shelf Rockfish north of 40°10′ N lat. 76.9 mt is deducted from the ACL to accommodate the Tribal fishery (30 mt), the incidental open access fishery (17.7 mt), EFP catch (4.5 mt), and research catch (24.7 mt), resulting in a fishery HG of 1,971 mt.
ᵒᵒ Slope Rockfish north of 40°10′ N lat. 80.8 mt is deducted from the ACL to accommodate the Tribal fishery (36 mt), the incidental open access fishery (21.7 mt), EFP catch (1.5 mt), and research catch (21.6 mt), resulting in a fishery HG of 1,651 mt.
ᵖᵖ Nearshore Rockfish south of 40°10′ N lat. 4.1 mt is deducted from the ACL to accommodate the incidental open access fishery (1.4 mt) and research catch (2.7 mt), resulting in a fishery HG of 1,159 mt.
qq Shelf Rockfish south of 40°10′ N lat. 79.1 mt is deducted from the ACL to accommodate the incidental open access fishery (4.6 mt), EFP catch (60 mt), and research catch (14.5 mt), resulting in a fishery HG of 1,546 mt.
ʳʳ Slope Rockfish south of 40°10′ N lat. 20.2 mt is deducted from the ACL to accommodate the incidental open access fishery (16.9 mt), EFP catch (1 mt), and research catch (2.3 mt), resulting in a fishery HG of 723 mt. Blackgill rockfish has a stock-specific HG for the entire groundfish fishery south of 40°10′ N lat. set equal to the species' contribution to the 40-10-adjusted ACL. Harvest of blackgill rockfish in all groundfish fisheries south of 40°10′ N lat. counts against this HG of 159 mt.
ˢˢ Other Flatfish. The Other Flatfish complex is comprised of flatfish species managed in the PCGFMP that are not managed with stock-specific OFLs/ABCs/ACLs. MoS of the species in the Other Flatfish complex are unassessed and include: butter sole, curlfin sole, flathead sole, Pacific sanddab, rock sole, sand sole, and rex sole. 249.5 mt is deducted from the ACL to accommodate the Tribal fishery (60 mt), the incidental open access fishery (161.6 mt), EFP fishing (0.1 mt), and research catch (27.8 mt), resulting in a fishery HG of 5,792 mt.
ᵗᵗ Other Fish. The Other Fish complex is comprised of kelp greenling off California and leopard shark coastwide. 8.9 mt is deducted from the ACL to accommodate the incidental open access fishery (8.8 mt) and research catch (0.1 mt), resulting in a fishery HG of 230 mt.

4. Revise table 2b to part 660, subpart C, to read as follows:

Table 2b to Part 660, Subpart C—2020, and Beyond, Allocations by Species or Species Group
[Weight in metric tons]
Stocks/stock complexes | Area | Fishery HG or ACT ᵃ ᵇ | Trawl: % | Trawl: Mt | Non-trawl: % | Non-trawl: Mt
Arrowtooth flounder | Coastwide | 10,655.1 | 95 | 10,122.3 | 5 | 532.8
Big skate ᵃ | Coastwide | 452.1 | 95 | 429.5 | 5 | 22.6
Bocaccio ᵃ | S of 40°10′ N lat | 1,964.9 | 39 | 767.1 | 61 | 1,197.8
Canary rockfish ᵃ ᵇ | Coastwide | 1,300.9 | 72 | 940.3 | 28 | 360.6
Chilipepper rockfish | S of 40°10′ N lat | 2,325.1 | 75 | 1,743.8 | 25 | 581.3
COWCOD ᵃ | S of 40°10′ N lat | 9.0 | 36 | 3.2 | 64 | 5.8
Darkblotched rockfish ᶜ | Coastwide | 781.2 | 95 | 742.1 | 5 | 39.1
Dover sole | Coastwide | 48,404.4 | 95 | 45,984.2 | 5 | 2,420.2
English sole | Coastwide | 9,918.8 | 95 | 9,422.9 | 5 | 495.9
Lingcod | N of 40′10° N lat | 4,263.0 | 45 | 1,918.4 | 55 | 2,344.7
Lingcod | S of 40′10° N lat | 857.7 | 45 | 386.0 | 55 | 471.7
Longnose skate ᵃ | Coastwide | 1,851.7 | 90 | 1,666.5 | 10 | 185.2
Longspine thornyhead | N of 34°27′ N lat | 2,419.6 | 95 | 2,298.6 | 5 | 121.0
Pacific cod | Coastwide | 1,093.8 | 95 | 1,039.1 | 5 | 54.7
Pacific whiting ᵈ | Coastwide | 348,968 | 100 | 348,968 | 0 | 0
Pacific ocean perch ᵉ | N of 40°10′ N lat | 4,206.6 | 95 | 3,996.3 | 5 | 210.3
Petrale sole | Coastwide | 2,524.4 | 95 | 2,398.2 | 5 | 126.2
Sablefish | N of 36° N lat | NA | See Table 2c
Sablefish | S of 36° N lat | 2,027.8 | 42 | 851.7 | 58 | 1,176.1
Shortspine thornyhead | N of 34°27′ N lat | 1,603.7 | 95 | 1,523.5 | 5 | 80.2
Shortspine thornyhead | S of 34°27′ N lat | 881.8 | NA | 50.0 | NA | 831.8
Splitnose rockfish | S of 40°10′ N lat | 1,714.4 | 95 | 1,628.7 | 5 | 85.7
Starry flounder | Coastwide | 433.2 | 50 | 216.6 | 50 | 216.6
Widow rockfish ᶠ | Coastwide | 10,950.6 | 91 | 9,965.0 | 9 | 985.6
YELLOWEYE ROCKFISH | Coastwide | 42.9 | 8 | 3.4 | 92 | 39.5
Yellowtail rockfish | N of 40°10′ N lat | 4,940.9 | 88 | 4,348.0 | 12 | 592.9
Minor Shelf Rockfish North | N of 40°10′ N lat | 1,971.1 | 60.2 | 1,186.6 | 39.8 | 784.5
Minor Shelf Rockfish South | S of 40°10′ N lat | 1,545.9 | 12.2 | 188.6 | 87.8 | 1,357.3
Minor Slope Rockfish North | N of 40°10′ N lat | 1,651.2 | 81 | 1,337.5 | 19 | 313.7
Minor Slope Rockfish South | S of 40°10′ N lat | 722.8 | 63 | 455.4 | 37 | 267.4
Other Flatfish | Coastwide | 5,791.5 | 90 | 5,212.4 | 10 | 579.2
ᵃ Allocations decided through the biennial specification process.
ᵇ 46 mt of the total trawl allocation of canary rockfish is allocated to the MS and C/P sectors, as follows: 30 mt for the MS sector, and 16 mt for the C/P sector.
ᶜ Consistent with regulations at § 660.55(c), 9 percent (66.8 mt) of the total trawl allocation for darkblotched rockfish is allocated to the Pacific whiting fishery, as follows: 28.1 mt for the Shorebased IFQ Program, 16.0 mt for the MS sector, and 22.7 mt for the C/P sector. The tonnage calculated here for the Pacific whiting IFQ fishery contributes to the total shorebased trawl allocation, which is found at § 660.140(d)(1)(ii)(D).
ᵈ Consistent with regulations at § 660.55(i)(2), the commercial harvest guideline for Pacific whiting is allocated as follows: 34 percent (118,649 mt) for the C/P Coop Program; 24 percent (83,752 mt) for the MS Coop Program; and 42 percent (146,567 mt) for the Shorebased IFQ Program. No more than 5 percent of the Shorebased IFQ Program allocation (7,328 mt) may be taken and retained south of 42° N lat. before the start of the primary Pacific whiting season north of 42° N lat.
ᵉ Consistent with regulations at § 660.55(c), 17 percent (679.4 mt) of the total trawl allocation for Pacific ocean perch is allocated to the Pacific whiting fishery, as follows: 285.3 mt for the Shorebased IFQ Program, 163.0 mt for the MS sector, and 231.0 mt for the C/P sector. The tonnage calculated here for the Pacific whiting IFQ fishery contributes to the total shorebased trawl allocation, which is found at § 660.140(d)(1)(ii)(D).
ᶠ Consistent with regulations at § 660.55(c), 10 percent (996.5 mt) of the total trawl allocation for widow rockfish is allocated to the whiting fisheries, as follows: 418.5 mt for the shorebased IFQ fishery, 239.2 mt for the mothership fishery, and 338.8 mt for the catcher/processor fishery. The tonnage calculated here for the whiting portion of the shorebased IFQ fishery contributes to the total shorebased trawl allocation, which is found at § 660.140(d)(1)(ii)(D).

5. In § 660.140, revise paragraph (d)(1)(ii)(D) to read as follows:

§ 660.140 Shorebased IFQ Program.

* * * * *

(d) * * *

(1) * * *

(ii) * * *

(D) Pacific whiting and non-whiting QP shorebased trawl allocations. For the trawl fishery, NMFS will issue QP based on the following shorebased trawl allocations:

Table 1 to Paragraph (d)(1)(ii)(D)
IFQ species | Area | 2019 Shorebased trawl allocation (mt) | 2020 Shorebased trawl allocation (mt)
Arrowtooth flounder | Coastwide | 12,735.1 | 10,052.3
Bocaccio | South of 40°10′ N lat | 800.7 | 767.1
Canary rockfish | Coastwide | 953.6 | 894.3
Chilipepper | South of 40°10′ N lat | 1,838.3 | 1,743.8
COWCOD | South of 40°10′ N lat | 2.2 | 3.2
Darkblotched rockfish | Coastwide | 658.4 | 703.4
Dover sole | Coastwide | 45,979.2 | 45,979.2
English sole | Coastwide | 9,375.1 | 9,417.9
Lingcod | North of 40°10′ N lat | 2,051.9 | 1,903.4
Lingcod | South of 40°10′ N lat | 462.5 | 386.0
Longspine thornyhead | North of 34°27′ N lat | 2,420.0 | 2,293.6
Minor Shelf Rockfish complex | North of 40°10′ N lat | 1,155.2 | 1,151.6
Minor Shelf Rockfish complex | South of 40°10′ N lat | 188.6 | 188.6
Minor Slope Rockfish complex | North of 40°10′ N lat | 1,248.8 | 1,237.5
Minor Slope Rockfish complex | South of 40°10′ N lat | 456.0 | 455.4
Other Flatfish complex | Coastwide | 5,603.7 | 5,192.4
Pacific cod | Coastwide | 1,034.1 | 1,034.1
Pacific ocean perch | North of 40°10′ N lat | 3,697.3 | 3,602.2
Pacific whiting | Coastwide | 152,326.5 | 146,567
Petrale sole | Coastwide | 2,453.0 | 2,393.2
Sablefish | North of 36° N lat | 2,581.3 | 2,636.8
Sablefish | South of 36° N lat | 834.0 | 851.7
Shortspine thornyhead | North of 34°27′ N lat | 1,506.8 | 1,493.5
Shortspine thornyhead | South of 34°27′ N lat | 50.0 | 50.0
Splitnose rockfish | South of 40°10′ N lat | 1,646.7 | 1,628.7
Starry flounder | Coastwide | 211.6 | 211.6
Widow rockfish | Coastwide | 9,928.8 | 9,387.1
YELLOWEYE ROCKFISH | Coastwide | 3.4 | 3.4
Yellowtail rockfish | North of 40°10′ N lat | 4,305.8 | 4,048.0

* * * * *

[FR Doc. 2020-08019 Filed 4-16-20; 8:45 am]

BILLING CODE 3510-22-P